DEPARTMENT OF THE INTERIOR

National Park Service

[NPS-WASO-NAGPRA-NPS0034261; PPWOCRADN0-PCU00RP14.R50000]

Notice of Intent To Repatriate Cultural Items: Valentine Museum, Richmond, VA

AGENCY: National Park Service, Interior.

ACTION: Notice.

SUMMARY: The Valentine Museum, in consultation with the appropriate Indian Tribes or Native Hawaiian organizations, has determined that the cultural items listed in this notice meet the definition of unassociated funerary objects. Lineal descendants or representatives of any Indian Tribe or Native Hawaiian organization not identified in this notice that wish to claim these cultural items should submit a written request to the Valentine Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Valentine Museum at the address in this notice by September 2, 2022.

FOR FURTHER INFORMATION CONTACT: Alicia Starliper, Collection Project Manager/Registrar, Valentine Museum, 1015 E Clay Street, Richmond, VA 23219, telephone 804-649-0711 Ext. 329, email astarliper@thevalentine.org.

SUPPLEMENTARY INFORMATION: Notice is hereby given in accordance with the Native American Graves Protection and Repatriation Act (NAGPRA), 25 U.S.C. 3005, of the intent to repatriate cultural items under the control of the Valentine Museum, Richmond, VA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown time, 711 cultural items were removed from multiple sites in Cabell County, West Virginia and the following locations in Virginia: Col. Cabell's Farm (Albemarle County), Halifax County, Amherst County, Buckingham County, Franklin County, Charlotte County, Mecklenburg County, Fluvanna County, Franklin County, Goochland County, Hanover County, Henrico County, Shenandoah, Louisa County, Nelson County, Patrick County, Pittsylvania County, Powhatan County, Roanoke County, Rockbridge County, and Smyth County. The 711 unassociated funerary objects are one adze, 126 axes, one bannerstone, two beaded objects, six stone blades, six bone tools, one bowl, 32 celts, 22 cores, two fish hooks, four pottery fragments, one gaming stone, one gorget, two hammerstones, one hand tool, one hatchet, one hoe, one shell disk, seven stone implements, three knives, one shell necklace, two pendants, three pestles, 11 pipe and pipe fragments, 17 projectile points, one ceramic pot, four potsherds, two pottery fragments, one set of strung shells, 289 sherds, one sinker, two stone samples, 85 worked stones, 69 tools, and two vessels.

As part of his interest in prehistoric culture, museum founder Mann S. Valentine II (1824-1892), together with his sons Benjamin B. Valentine (1862-1919) and Edward P. Valentine (1864-1908), initiated multiple amateur excavations of Native American burial sites predominantly located in Virginia and North Carolina. The Valentine family disturbed these burial sites and stole ancestral human remains and funerary objects to add to their private collection, which became the foundation of the Valentine Museum.

Determinations Made by the Valentine Museum

Officials of the Valentine Museum have determined that:

• Pursuant to 25 U.S.C. 3001(3)(B), the 711 cultural items described above are reasonably believed to have been placed with or near individual human remains at the time of death or later as part of the death rite or ceremony and are believed, by a preponderance of the evidence, to have been removed from specific burial sites of Native American individuals.

• Pursuant to 25 U.S.C. 3001(2), there is a relationship of shared group identity that can be reasonably traced between the unassociated funerary objects and the Monacan Indian Nation.

Additional Requestors and Disposition

Lineal descendants or representatives of any Indian Tribe or Native Hawaiian organization not identified in this notice that wish to claim these cultural items should submit a written request with information in support of the claim to Alicia Starliper, Collection Project Manager/Registrar, Valentine Museum, 1015 E Clay Street, Richmond, VA 23219, telephone 804-649-0711 Ext. 329, email astarliper@thevalentine.org, by September 2, 2022. After that date, if no additional claimants have come forward, transfer of control of the unassociated funerary objects to the Monacan Indian Nation may proceed.

The Valentine Museum is responsible for notifying the Monacan Indian Nation that this notice has been published.

Dated: July 27, 2022.
Melanie O'Brien,
Manager, National NAGPRA Program.

[FR Doc. 2022-16567 Filed 8-2-22; 8:45 am]

BILLING CODE 4312-52-P